NATIONAL TRANSPORTATION SAFETY BOARD

Sunshine Act Meeting Cancellation

The National Transportation Safety Board has cancelled the Sunshine Act meeting previously scheduled for Tuesday, January 23, 2017, at the NTSB Conference Center, 429 L'Enfant Plaza, SW, Washington, DC. The matter scheduled to be considered at the Sunshine Act meeting concerned Aircraft Accident Report—Uncontained Engine Failure and Subsequent Fire, American Airlines Flight 383, Boeing 767-323, N345AN, Chicago, Illinois, October 28, 2016. This meeting is rescheduled for January 30, 2018.

NEWS MEDIA CONTACT: Telephone: (202) 314-6100.

FOR MORE INFORMATION CONTACT: Candi Bing, (202) 314-6403 or by email at bingc@ntsb.gov.

Dated: January 23, 2017.
Candi R. Bing,
Federal Register Liaison Officer.

[FR Doc. 2018-01423 Filed 1-23-18; 11:15 am]

BILLING CODE 7533-01-P